DEPARTMENT OF DEFENSE

Office of the Secretary

Charter Renewal of Department of Defense Federal Advisory Committees—Board of Visitors, Marine Corps University

AGENCY: Department of Defense (DoD).

ACTION: Charter renewal of Federal advisory committee.

SUMMARY: The DoD is publishing this notice to announce that it is renewing the charter for the Board of Visitors, Marine Corps University (BoV MCU).

FOR FURTHER INFORMATION CONTACT: Jim Freeman, DoD Advisory Committee Management Officer, 703-692-5952.

SUPPLEMENTARY INFORMATION: The BoV MCU's charter is being renewed pursuant to 10 U.S.C. 8592(d) and in accordance with the Federal Advisory Committee Act (FACA) of 1972 (5 U.S.C., Appendix) and 41 CFR 102-3.50(a). The charter and contact information for the BoV MCU's Designated Federal Officer (DFO) are found at https://www.facadatabase.gov/FACA/apex/FACAPublicAgencyNavigation.

Pursuant to 10 U.S.C. 8592(d), the BoV MCU was established so as to meet all requirements of the appropriate regional accrediting association. Additionally, the BoV MCU provides the Secretary of Defense with independent advice and recommendations on matters pertaining to the Marine Corps University (MCU) and U.S. Marine Corps professional military education programs. The BoV MCU shall provide advice and recommendations on academic and administrative matters critical to the full accreditation and successful operation of the MCU.

The BoV MCU shall be composed of at least seven and not more than 11 members who are eminent authorities in the fields of defense, academic administration, international affairs and/or leadership. Individual members will be appointed in accordance with DoD policy and procedures, and members will serve a term of service of one-to-four years with annual renewals.

One member, according to DoD policy and procedures, will be appointed as Chair of the BoV MCU. No member, unless approved according to DoD policy and procedures, may serve more than two consecutive terms of service on the BoV MCU, to include its subcommittees, or serve on more than two DoD federal advisory committees at one time.

Members of the BoV MCU who are not full-time or permanent part-time Federal officers or employees will be appointed as experts or consultants, pursuant to 5 U.S.C. 3109, to serve as special government employee members. BoV MCU members who are full-time or permanent part-time Federal officers or employees will be appointed, pursuant to 41 CFR 102-3.130(a), to serve as regular government employee members.

All members of the BoV MCU are appointed to provide advice on the basis of their best judgment without representing any particular point of view and in a manner that is free from conflict of interest.

Except for reimbursement of official BoV MCU-related travel and per diem expenses, members serve without compensation.

The public or interested organizations may submit written statements to the BoV MCU membership about the BoV MCU's mission and functions. Written statements may be submitted at any time or in response to the stated agenda of planned meeting of the BoV MCU. All written statements shall be submitted to the DFO for the BoV MCU, and this individual will ensure that the written statements are provided to the membership for their consideration.

Dated: May 10, 2022.
Aaron T. Siegel,
Alternate OSD Federal Register Liaison Officer, Department of Defense.

[FR Doc. 2022-10403 Filed 5-12-22; 8:45 am]

BILLING CODE 5001-06-P